SMALL BUSINESS ADMINISTRATION

Reporting and Recordkeeping Requirements Under OMB Review

AGENCY: Small Business Administration.

ACTION: 30-day notice.

SUMMARY: The Small Business Administration (SBA) is publishing this notice to comply with requirements of the Paperwork Reduction Act (PRA) requires agencies to submit proposed reporting and recordkeeping requirements to OMB for review and approval, and to publish a notice in the Federal Register notifying the public that the agency has made such a submission. This notice also allows an additional 30 days for public comments.

DATES: Submit comments on or before April 10, 2019.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: The U.S. Small Business Administration is planning to launch an online entrepreneurship learning platform with a focus on women entrepreneurs looking to scale their businesses. Despite accounting for more than one-third of U.S. businesses, women entrepreneurs still lag in sales and revenue. This cloud-based learning initiative will provide the resources, including peer-to-peer learning, mentoring, and networking opportunities to help entrepreneurs grow their business. Entrepreneurs are required to complete a registration form in order to gain access to this resource. To create a basic user account, entrepreneur will be asked to provide basic contact information (name, email address, and whether the entrepreneur is currently in business). SBA also proposes to collect additional information (e.g., the type of industry the entrepreneur is engaged in, gender, and race or ethnicity) that is intended to help SBA determine who is using the platform and the scope of their participation, as well as to develop a platform that would enable the user to tailor delivery of content to meet their needs.

Title: Women's Digitalization (Entrepreneur Learning) Initiative Registration.

Description of Respondents: Women entrepreneurs.

Form Number: N/A.

Estimated Annual Responses: 350,000.

Estimated Annual Hour Burden: 46,667.

Curtis Rich,
Management Analyst.

[FR Doc. 2019-04310 Filed 3-8-19; 8:45 am]

BILLING CODE 8025-01-P